NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by June 30, 2002. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), has developed regulations that implement the “Agreed Measures for the Conservation of Antarctic Fauna and Flora” for all United States citizens. The Agreed Measures, developed by the Antarctic Treaty Consultative Parties, recommended establishment of a permit system for various activities in Antarctica and designation of certain animals and certain geographic areas as requiring special protection. The regulations establish such a permit system to designate Specially Protected Areas and Sites of Special Scientific Interest.

The applications received are as follows:

1. Applicant

[Permit Application No. 2003-001]

Randall Davis, Marine Biology, Texas A&M University, 5007 Avenue U, Galveston, TX 77551.

Activity for Which Permit Is Requested

Taking. The applicant proposes to capture by net up to 20 free ranging adult Weddell seals and approximately 10 Weddell seal pups. Animal-borne video system/data loggers will be attached to the seals to record diving behavior, physiology, and locomotor performance of marine mammals at depth. This research is part of a project studying Weddell seals to test hypothesis related to general foraging strategy, foraging location, searching mode, prey detection, and the cost of diving and foraging. All captured seals will be released.

Location

McMurdo Sound, Antarctica.

Dates

October 1, 2002 to February 15, 2003.

2. Applicant

[Permit Application No. 2003-002]

David Ainley, H.T. Harvey and Associates, 3150 Almaden Expressway, Suite 3150, San Jose, CA 95118.

Activity for Which Permit Is Requested

Take and Enter Antarctic Specially Protected Areas. The applicant proposes to enter the Adelie penguin rookeries in the Antarctic Specially Protected Areas of Beaufort Island (ASPA 105), Cape Royds, Ross Island (ASPA 121), and Cape Crozier, Ross Island (ASPA 124) to assess (1) reproductive success, annual mortality, and between colony movement rates, and, (2) the environmental context of the populations. Up to 1800 birds will be banded. Up to 70 adult birds will have stomach lavages to collect stomach contents for diet studies. An additional 100 adult birds will have either a satellite tag (PTT) attached to determine foraging area, or a time-depth-recorder (TDR) to determine foraging behavior. These instruments will be removed after 1-2 foraging dives and attached to other birds. Finally, approximately 15 adult birds at each site will have a geolocation tag (GLS) attached to their leg bands to determine the wintering area of each individual. These tags will be removed the following summer and the data downloaded for analysis.

Location

Beaufort Island (ASPA 105), Cape Royds, Ross Island (ASPA 121), and Cape Crozier, Ross Island (ASPA 124).

Dates

November 1, 2002 to February 15, 2005.

3. Applicant

[Permit Application No. 2003-003]

Paul J. Ponganis, Center for Marine Biotechnology & Biomedicine, Scripps Institution of Oceanography, University of California, San Diego, La Jolla, CA 92093-0204.

Activity for Which Permit Is Requested

Take, Enter an Antarctic Specially Protected Areas, and Import into the United States. The applicant proposes to enter the Emperor penguins colonies at Antarctic Specially Protected Areas of Beaufort Island (ASPA 105), and Cape Crozier, Ross Island (ASPA 124) to conduct a census of the bird population. The colonies were severely affected by the B15 iceberg in 2001; there were no living emperors at Cape Crozier, and the census was extremely reduced at Beaufort Island. Access to these sites will allow continuation of the census of these populations from previous research, and will provide continuity with planned censuses in the future. The B15 iceberg has become a natural experiment to evaluate the fidelity of Emperor penguins to colony sites and to examine the resilience of Emperor penguins to short-term disasters. The applicant also proposes to salvage up to 20 Emperor carcasses, if found, for return to the States for autopsy/specimen collection/anatomical study.

Location

Beaufort Island (ASPA 105), and Cape Crozier, Ross Island (ASPA 124).

Dates

October 1, 2002 to October 1, 2003.

4. Applicant

[Permit Application No. 2003-004]

William R. Fraser, Polar Oceans Research Group, P.O. Box 368, Sheridan, MT 59749.

Activity for Which Permit Is Requested

Take. The applicant, as a participant in a long-term ecological research program in the western Antarctic Peninsula, proposes to capture, collect samples, weigh, band and attach transmitters to a number of penguin and seabird species to assess how annual environmental variability affects seabird diets, breeding success, growth rates, survival, recruitment, behavior, population trends, foraging success and seasonal dispersal. The methods and species are listed in the chart below.

Manner of Taking By Capture and Release For (1) Census populations and/or mark breeding territories; (2) capture, mark, band and/or weight adults, chicks and eggs; (3) obtain diet data through stomach lavage, by screening the contents of terrestrial sediment traps and/or by collecting naturally regurgitated prey items; (4) place transmitters on individuals; (5) place instrumented artificial eggs under incubating individuals; and (6) use GIS/GPS technologies to update existing breeding habitat maps.

Specimen Information
Species | Number | Age | Sex | Size | Condition | Ultimate Disposition
Adelie Penguin | 600 | AD/CK | Unknown |  | Take by 1,2,3,4,5,6 | Released
Chinstrap | 70 | Adult | “ |  | Take by 1,3,4 | ”
Penguin | 70 | Adult | “ |  | Take by 1,3,4 | ”
Gentoo | 100 | AD/CK | “ |  | Take by 1,2,3,4 | ”
Penguin | 500 | AD/CK | “ |  | Take by 1,2,3,4 | ”
Brown Skua | 1600 | AD/CK | “ |  | Take by 1,2,3,4,5 | ”
South Polar | 250 | Adult | “ |  | Take by 1,3 | ”
Skua | 250 | AD/CK | “ |  | Take by 1,2,3 | ”
Southern |  |  |  |  |  |
Giant Petrel |  |  |  |  |  |
Blue-Eyed |  |  |  |  |  |
Shag |  |  |  |  |  |
Kelp Gulls |  |  |  |  |  |

Location

Palmer Station, Anvers Island vicinity, and Marguerite Bay and vicinity.

Dates

October 1, 2002 to September 30, 2007.

5. Applicant

[Permit Application No. 2003-005]

William R. Fraser, Polar Oceans Research Group, P.O. 368, Sheridan, MT 59749.

Activity for Which Permit Is Requested

Take, and Enter Antarctic Specially Protected Areas, and Import into the United States. The applicant is a participant in two long-term ecological research (LTER) programs in the western Antarctic Peninsula region. The focus of the research is to relate variability in seabird ecology to changes in the physical and biological environment, especially sea ice, snow conditions and prey availability. Studies will assess how annual environmental variability affects seabird diets, breeding success, growth rates, survival and recruitment, behavior, population trends, foraging success and seasonal dispersal. To accomplish these objective, the applicant proposes to: (1) Census populations and mark breeding territories; (2) capture, mark, and weight a select number of adults, chicks and eggs; (3) obtain diet samples through stomach lavage, by screening the contents of terrestrial sediment taps and collecting naturally regulagitated prey items; (4) place transmitters on individuals to develop foraging and dispersal profiles; (5) place instrumented artificial eggs under incubating individuals to measure heart-rate and body temperature; and, (6) use GIS/GPS technologies to update existing breeding habitat maps * * * The applicant proposes to enter the following Antarctic Specially Protected Areas:

Dion Islands, Marguerite Bay (ASPA 107)—This site has the only known breeding population of Emperor Penguins in the western Antarctic Peninsula. The applicant proposes to conduct a census in order to update the population data available on this species, since a census has not been conducted in more than two decades.

Litchfield Island, Arthur Harbor (ASPA 113) and Biscoe Point, Anvers Island (ASPA 139)—These two sites near Palmer Station, Anvers Island, serve as research control areas. The applicant proposes to enter Litchfield Island 2-3 times a week and Biscoe Point up to 5 times a season, for 4-5 hours each visit to census, brand, weight, collect diet samples of seabirds and conduct habitat mapping. Heavily vegetated areas will be avoided.

Avian Island, Marguerite Bay (ASPA 117)—This site serves as an alternate site in the Marguerite Bay region for obtaining Adelie Penguin diet samples and censuses during the annual Palmer LTER research cruise. The applicant proposes to obtain diet samples from 20-25 penguins to determine trends in diets and populations of this species in the Marguerite Bay region to determine if it differs from those in the Palmer Station region due to differences in annual sea ice and snow conditions.

Lagotellerie Island, Marguerite Bay (ASPA 115)—This site has a population of Adelie penguins that could be used as an alternate sampling area in the event access to Avian Island is impeded by ice or weather.

Location

Dion Islands, Marguerite Bay (ASPA 107); Litchfield Island, Arthur Harbor (ASPA 113); Lagotellerie Island, Marguerite Bay (ASPA 115); Avian Island, Marguerite Bay (ASPA 117); and, Biscoe Point, Anvers Island (ASPA 139).

Dates

October 1, 2002 to September 30, 2007.

6. Applicant

[Permit Application No. 2003-006]

William R. Fraser, Polar Oceans Research Group. P.O. 368, Sheridan, MT 59749.

Activity for Which Permit is Requested

Take, and Import into the United States. The applicant is a participant in two long-term ecological research (LTER) programs in the western Antarctic Peninsula region, and during the course of normal research occasionally encounters specimens of various species (penguins, seabirds, etc.) that have died of natural causes. The application proposes to salvage and preserve these specimens for import into the U.S. and disposition at teaching and research institutions.

Location

Palmer Station, Anvers Island and vicinity.

Dates

October 1, 2002 to September 30, 2007.

7. Applicant

[Permit Application No. 2003-007]

Mark Buckley, Multimedia Manager, Raytheon Polar Services Company, 7400 S. Tucson Way, Centennial, CO 80112.

Activity for Which Permit is Requested

Enter Antarctic Specially Protected Areas. The applicant is a member of Raytheon Polar Services Company, which is the prime civilian contractor to the U.S. Antarctic Program (USAP), and is tasked by the National Science Foundation (NSF) with video production in Antarctica. During the past year or so, unprecedented ice conditions had adverse impact on penguin colonies in the McMurdo Sound and Ross Sea region. With the recent calving of C-19 and the influence of B-15, it is expected that scientific interest and activities, as well as public interests will continue. Therefore the applicant proposes his staff of videographers be permitted to enter the Antarctic Specially Protected Areas of Beaufort Island (ASPA 105), New College Valley, Cape Bird (ASPA 116), Cape Royds, Ross Island (ASPA 121), and, Cape Crozier, Ross Island (ASPA 124) for the purpose of taking “low impact” documentary film footage. The video team will accompany a similarly permitted researcher into the sites to film scientific research. Access to the sites will be dependant upon operational, scientific conditions, and availability of transportation.

Location

Beaufort Island (ASPA 105), New College Valley, Cape Bird (ASPA 116), Cape Royds, Ross Island (ASPA 121), and, Cape Crozier, Ross Island (ASPA 124).

Dates

October 1, 2002 to February 14, 2003.

Nadene G. Kennedy,
Permit Officer, Office of Polar Programs.

[FR Doc. 02-13831 Filed 5-31-02; 8:45 am]

BILLING CODE 7555-01-M